NUCLEAR REGULATORY COMMISSION

[Docket No. 72-8]

Notice of Issuance of Amendment to Materials License SNM-2505, Calvert Cliffs Nuclear Power Plant Independent Spent Fuel Storage Installation

The U.S. Nuclear Regulatory Commission (NRC or the Commission) has issued Amendment 3 to Materials License No. SNM-2505 held by Calvert Cliffs Nuclear Power Plant (CCNPP) for the receipt, possession, storage, and transfer of spent fuel at the Calvert Cliffs independent spent fuel storage installation (ISFSI), located in Calvert County, Maryland. The amendment is effective as of the date of issuance.

By application dated November 16, 2000, CCNPP requested an amendment to its ISFSI license to revise License Conditions 9, 12, and 16 and the License Technical Specifications to eliminate unnecessary regulatory requirements.

This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that, pursuant to 10 CFR 51.22(c)(11), an environmental assessment need not be prepared in connection with issuance of the amendment.

For further details with respect to this action, see the amendment application dated November 16, 2000. In accordance with 10 CFR 2.790 of the NRC's “Rules of Practice,” a copy of the application will be available electronically for public inspection in the NRC Public Document Room, One White Flint North Building, 11555 Rockville Pike, Rockville, Maryland 20852, or from the publicly available records component of the NRC's Agencywide Documents Access and Management System (ADAMS). ADAMS is accessible from the NRC Web site at http://www.nrc.gov/NRC/ADAMS/index.html (the Public Electronic Reading Room).

Dated at Rockville, Maryland, this 17th day of April 2001.
For the Nuclear Regulatory Commission.
Susan M. Frant,
Deputy Director, Spent Fuel Project Office, Office of Nuclear Material Safety and Safeguards.

[FR Doc. 01-10615 Filed 4-27-01; 8:45 am]

BILLING CODE 7590-01-P